NATIONAL SCIENCE FOUNDATION

Sunshine Act Meetings

FEDERAL REGISTER CITATION OF PREVIOUS ANNOUNCEMENT: The meeting was noticed on July 25, 2023, at 88 FR 47923.

PREVIOUSLY ANNOUNCED TIME AND DATE OF THE MEETING: Wednesday, July 26, 2023, from 1-2 p.m. EDT.

CHANGES IN THE MEETING: There is an additional agenda item in the meeting. It is: NSF Engines Type 2 Competition Update.

CONTACT PERSON FOR MORE INFORMATION: Point of contact for this meeting is: Chris Blair, cblair@nsf.gov, 703/292-7000.

Christopher Blair,
Executive Assistant to the National Science Board Office.

[FR Doc. 2023-16159 Filed 7-26-23; 11:15 am]

BILLING CODE 7555-01-P